COMMISSION ON CIVIL RIGHTS

Sunshine Act Meeting Notice

AGENCY: U.S. Commission on Civil Rights.

Date and Time: Friday, October 13, 2006, 9 a.m.

Place: U.S. Commission on Civil Rights, 624 9th Street, NW., Room 540, Washington, DC 20425.

The meeting is also accessible to the public through the following: Call-In Number: 1-800-597-0731; Access Code Number: 43783773; Federal Relay Service: 1-800-877-8339.

Status:

Agenda

I. Approval of Agenda.

II. Approval of Minutes of August 18, Meeting.

III. Announcements.

IV. Staff Director's Report.

V. Program Planning.

• Record for Briefing on Benefits of Diversity in K-12 Education.

• Briefing Report on K-12 Education.

• Record for Omaha Briefing on Racially Identifiable School Districts.

• Campus Anti-Semitism Public Education Campaign.

• Research on Academic Mismatch.

VI. Management and Operations.

• Procedures for National Office Work Products.

VII. State Advisory Committee Issues.

• Re-Charter Package for Georgia State Advisory Committee.

• Re-Charter Package for Illinois State Advisory Committee.

• Re-Charter Package for Utah State Advisory Committee.

VIII. Future Agenda Items.

IX. Adjourn.

Briefing Agenda

Commission Briefing: Voter Fraud and Voter Intimidation.

• Introductory Remarks by Chairman.

• Speakers' Presentations.

• Questions by Commissioners and Staff Director.

FOR FURTHER INFORMATION CONTACT: Manuel Alba, Press and Communications (202) 376-7700.

David Blackwood,
General Counsel.

[FR Doc. 06-8581 Filed 10-4-06; 3:56 pm]

BILLING CODE 6335-01-P